DEPARTMENT OF THE INTERIOR

Bureau of Land Management

[CO501-1431-EQ; COC-68431]

Notice of Realty Action: Non-Competitive Lease of Public Land in Fremond County, CO

AGENCY: Bureau of Land Management, Interior.

ACTION: Notice of realty action.

SUMMARY: The Bureau of Land Management (BLM) has determined that approximately 0.055 acres of public land in Fremont County, Colorado, is suitable for lease pursuant to Section 302 of the Federal Land Policy and Management Act of 1976 (43 U.S.C. 1732).

DATES: Interested parties may submit comments for a period of January 23, 2006.

ADDRESSES: Comments should be sent to the Field Manager, Royal George Field Office, Bureau of Land Management, 3170 East Main Street, Cañon City, Colorado 81212.

FOR FURTHER INFORMATION CONTACT: Lindell Greer, Realty Specialist, BLM Royal Gorge Field Office, (719) 269-8532.

SUPPLEMENTARY INFORMATION:

The BLM has examined a parcel of public land, containing approximately 0.055 acres and described as a metes and bounds parcel in the SW¼SW¼ of section 33, T. 50 N., R. 11 E., New Mexico Principal Meridian, Fremont County, Colorado, and determined that it is suitable for lease pursuant to Section 302 of the Federal Land Policy and Management Act of 1976 (43 U.S.C. 1732), using noncompetitive lease procedures as provided in 43 CFR 2920.5-4(b). The lands are presently used for seasonal occupancy purposes.

The BLM proposes to grant the current occupant Charles E. Afeman, a non-assignable life-estate lease to authorize the existing seasonal occupancy and use. The lease, if issued, would be for not less than fair market value and be to all valid existing rights and the provisions of the Federal Land Policy and Management Act and applicabl regulations of the Secretary of the Interior. Upon relinquishment or cancellation of the lease, or death of the lessee, the lease would terminate, the existing improvements would be removed, and the land would be restored to its natural condition. Issuing a non-assignable, life-estate lease for this public land parcel is consistent with the Royal Gorge Resource Management Plan (May 1996).

Publication of this notice will initiate public review, consultation, and collaboration for this proposed land use authorization. Detailed information concerning the proposed action is available for review at the Royal Gorge Field Office, Bureau of Land Management, 3170 East Main Street, Cañon City, Colorado 81212, or by telephoning Lindell Greer, Realty Specialist, at (719) 269-8532.

Interested parties may submit comment to the Field Manager, Royal Gorge Field Office, at the above address until January 23, 2006. Any adverse comments will be evaluated by the Royal Gorge Field Manager, who may sustain, vacate, or modify this realty action. In the absence of any adverse comments, this action will become the final determination of the Department of the Interior.

Roy L. Masinton,
Royal Gorge Field Manager.

[FR Doc. 05-23731 Filed 12-6-05; 8:45 am]

BILLING CODE 4310-JB-M